DEPARTMENT OF TRANSPORTATION

Federal Motor Carrier Safety Administration

49 CFR Parts 387 and 397

[Docket No. FMCSA-2024-0201]

RIN 2126-AC66

Federal Motor Carrier Safety Regulations; Correction

AGENCY: Federal Motor Carrier Safety Administration (FMCSA), Department of Transportation (DOT).

ACTION: Notification of enforcement discretion.

SUMMARY: This document announces that FMCSA will not take enforcement action against regulated entities for failing to comply with the final rule and correction titled “Federal Motor Carrier Safety Regulations; Correction” until March 20, 2025.

DATES: As of February 24, 2025, enforcement of the final rule and correcting amendment published January 10, 2025, at 90 FR 1908, is delayed until March 20, 2025.

FOR FURTHER INFORMATION CONTACT: Mr. Nicholas Lockhart, Regulatory Development Division, Office of Policy, FMCSA, 1200 New Jersey Avenue SE, Washington, DC 20590-0001; (202) 366-2219; nicholas.lockhart@dot.gov.

Electronic Access and Filing: This document, the final rule and correction published January 10, 2025, and the final rule published November 18, 2024, may be viewed online at www.regulations.gov using the docket number listed above. Electronic retrieval help and guidelines are available on the website. It is available 24 hours each day, 365 days each year. An electronic copy of this document may also be downloaded from the Office of the Federal Register's website at www.federalregister.gov and the Government Publishing Office's website at www.GovInfo.gov.

SUPPLEMENTARY INFORMATION: On November 18, 2024, FMCSA published a final rule titled “Federal Motor Carrier Safety Regulations” (89 FR 90608) that amended its regulations by making technical corrections throughout the FMCSRs. The rule became effective upon publication but contained two errors. The first error occurred in amendatory instruction no. 107, where the Agency sought to revise § 387.307, which is stayed, without first lifting the stay. The second error occurred in amendatory instruction no. 152, where the Agency sought to revise paragraph (2) of the definition of commerce in § 397.65 and referenced non-existent paragraph (s) instead of the intended paragraph (2). FMCSA published a final rule and correction on January 10, 2025 (90 FR 1908), correcting these two errors. The final rule and correction became effective upon publication.

On January 20, 2025, the President issued a memorandum titled, “Regulatory Freeze Pending Review” (90 FR 8249, Jan. 28, 2025), to direct executive departments and agencies to consider postponing for 60 days the effective date for any rules that had been published in the Federal Register but had not taken effect for the purpose of reviewing any questions of fact, law, and policy that the rules may raise. While not explicitly subject to the President's memorandum, FMCSA is providing notice that it will exercise its enforcement discretion and not enforce the provisions of the correction and final rule titled “Federal Motor Carrier Safety Regulations; Correction” until March 20, 2025, to allow the officials appointed or designated by the President to review the correction and final rule to ensure that it is consistent with the law and Administration policies. The final rule titled “Federal Motor Carrier Safety Regulations,” published and effective on November 18, 2024, remains in force.

Issued under authority delegated in 49 CFR 1.87.
Sue Lawless,
Assistant Administrator/Chief Safety Officer.

[FR Doc. 2025-02968 Filed 2-21-25; 8:45 am]

BILLING CODE 4910-EX-P